DEPARTMENT OF THE INTERIOR

National Park Service

[NPS-WASO-NAGPRA-NPS0038929; PPWOCRADN0-PCU00RP14.R50000]

Notice of Inventory Completion: University of Tennessee, McClung Museum of Natural History & Culture, Knoxville, TN

AGENCY: National Park Service, Interior.

ACTION: Notice.

SUMMARY: In accordance with the Native American Graves Protection and Repatriation Act (NAGPRA), the University of Tennessee, McClung Museum of Natural History & Culture (UTK), has completed an inventory of human remains and associated funerary objects and has determined that there is a cultural affiliation between the human remains and associated funerary objects and Indian Tribes or Native Hawaiian organizations in this notice.

DATES: Repatriation of the human remains and associated funerary objects in this notice may occur on or after November 21, 2024.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, 56 individuals have been identified. The 397 lots of associated funerary objects are 146 lots of ceramics, 105 lots of faunal remains, 29 lots of lithics, 88 lots of daub, one lot of petrified wood, 17 lots of indeterminate/other objects, 10 lots of botanicals, and one lot of historic objects.

The remains and funerary objects were removed from 40SY1, the Chucalissa site, in Shelby County, TN. The site was excavated in 1940 by T.M.N. Lewis, George Lidberg, and C.H. Nash of the University of Tennessee, Knoxville. After excavation ended, the remains and funerary objects were transferred to UTK. Chucalissa was a Mississippian site, with the most intensive occupation between 900-1500 CE. Some of the remains and associated funerary objects have been “repaired” using an unknown adhesive/s, but to our knowledge, no potentially hazardous substances were used to treat the remains or objects.

During consultation the Quapaw Nation communicated their cultural affiliation with the Chucalissa site, based off the following types of information: historical, geographical, linguistic, anthropological, archaeological, folkloric, oral tradition, and expert opinion.

During consultation, The Chickasaw Nation communicated their cultural affiliation with the Chucalissa site based off historical and geographical information, specifically referencing the Treaty with the US and the Chickasaw of 1818.

Cultural Affiliation

Based on the information available and the results of consultation, cultural affiliation is clearly identified by the information available about the human remains and associated funerary objects described in this notice.

Determinations

UTK has determined that:

• The human remains described in this notice represent the physical remains of 56 individuals of Native American ancestry.

• The 397 lots of objects described in this notice are reasonably believed to have been placed intentionally with or near individual human remains at the time of death or later as part of the death rite or ceremony.

• There is a connection between the human remains and associated funerary objects described in this notice and the Quapaw Nation and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 21, 2024. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.10.

Dated: October 11, 2024.
Melanie O'Brien,
Manager, National NAGPRA Program.

[FR Doc. 2024-24422 Filed 10-21-24; 8:45 am]

BILLING CODE 4312-52-P